DEPARTMENT OF COMMERCE

National Oceanic and Atmospheric Administration

[I.D. 071601C]

Marine Mammals; File No. 981-1578-01

AGENCY: National Marine Fisheries Service (NMFS), National Oceanic and Atmospheric Administration (NOAA), Commerce.

ACTION: Issuance of permit amendment.

SUMMARY: Notice is hereby given that Dr. Peter L. Tyack, Ph.D., Woods Hole Oceanographic Institution, Biology Department, 46 Water Street, Woods Hole, MA 02543 has been issued an amendment to scientific research Permit No.981-1578-00.

ADDRESSES: The amendment and related documents are available for review upon written request or by appointment in the following office(s):

Permits and Documentation Division, Office of Protected Resources, NMFS, 1315 East-West Highway, Room 13705, Silver Spring, MD 20910; phone (301) 713-2289; fax (301) 713-0376;

Northeast Region, NMFS, One Blackburn Drive, Gloucester, MA S. longirostris 01930-2298; phone (978) 281-9200; fax (978) 281-9371;

Southeast Region, NMFS, 9721 Executive Center Drive North, St. Petersburg, FL 33702-2432; phone (727) 570-5301; fax (727) 570-5320.

FOR FURTHER INFORMATION CONTACT: Tammy Adams or Gene Nitta, (301) 713-2289.

SUPPLEMENTARY INFORMATION: On June 8, 2001, notice was published in the Federal Register (66 FR 30885) that an amendment of Permit No. 981-1578-00, issued August 31, 2000 (65 FR 57319), had been requested by the above-named individual. The requested amendment has been granted under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

This permit, as amended, authorizes tagging of and playbacks to one additional species of baleen whale (Bryde’s whale, Balaenoptera edeni) and three additional odontocete whale species(Stenella attenuata, S. longirostris and S. clymene; expands the study area to include the Bahamas and Gulf of Mexico in the North Atlantic; and adds playbacks of an additional acoustic signal, at the same maximum received level.

Issuance of this amendment, as required by the ESA was based on a finding that such permit (1) was applied for in good faith, (2) will not operate to the disadvantage of the endangered species which is the subject of this permit, and (3) is consistent with the purposes and policies set forth in section 2 of the ESA.

Dated: July 26, 2001.
Ann D. Terbush,
Chief, Permits and Documentation Division, Office of Protected Resources, National Marine Fisheries Service.

[FR Doc. 01-19360 Filed 8-1-01; 8:45 am]

BILLING CODE 3510-22-S